DEPARTMENT OF ENERGY

Federal Energy Regulatory Commission

[Docket Nos. CP05-144-000, CP05-150-000, CP05-151-000, CP05-152-000]

Columbia Gas Transmission Corporation, Hardy Storage Company, LLC; Notice of Availability of the Environmental Assessment for the Proposed Hardy Storage and Transmission Projects

August 5, 2005.

The staff of the Federal Energy Regulatory Commission (FERC or Commission) has prepared an environmental assessment (EA) on the natural gas pipeline and aboveground facilities proposed by Columbia Gas Transmission Corporation (Columbia) and Hardy Storage Company, LLC (Hardy LLC) in the above referenced dockets.

The EA was prepared to satisfy the requirements of the National Environmental Policy Act. The staff concludes that approval of the proposed project, with appropriate mitigating measures, would not constitute a major federal action significantly affecting the quality of the human environment.

The EA assesses the potential effects of the proposed Hardy Storage and Transmission Projects. As part of the Hardy Storage Project, Hardy LLC would install approximately 36.8 miles of natural gas transmission pipeline and associated aboveground facilities (three repeater towers, five cathodic protection ground beds, and a methanol injection system) in Hardy and Hampshire Counties, West Virginia. In addition, Hardy LLC would convert 12 existing, inactive production wells into storage wells, recondition 3 existing production wells into observation wells, drill 14 new storage wells, install 26 new well lines, and construct the new 7,100-horsepower Hardy Compressor Station.

In conjunction with the Hardy Storage Project (as the separate Hardy Transmission Project), Columbia would install three segments of new 24-inch diameter loop ¹ (totaling approximately 30.2 miles) in Shenandoah, Rockingham, Page, and Greene Counties, Virginia, along Columbia's existing WB-2-VA line. Columbia would also install a new 2.6-mile segment of 14-inch-diameter loop along Columbia's existing VM-107 and VM-108 lines in Louisa County, Virginia, extending from Columbia's existing Louisa Compressor Station to the south. In addition, Columbia would modify various appurtenances at the existing Bickers Compressor Station in Greene County, Virginia; Boswells Tavern Measuring and Regulating (M&R) Facility in Louisa County, Virginia; Manor Road M&R Facility in Baltimore County, Maryland; and the Lost River Compressor Station in Hardy County, West Virginia.

¹ 1 A loop is a segment of pipeline that is installed adjacent to an existing pipeline and is connected to it on both ends. The loop allows more gas to be moved through the pipeline system.

The EA has been placed in the public files of FERC. A limited number of copies of the EA are available for distribution and public inspection at: Federal Energy Regulatory Commission, Public Reference Room, 888 First Street, NE. Room 2A, Washington, DC 20426, 202-502-8371.

Copies of the EA have been mailed to federal, state, and local agencies, public interest groups, interested individuals, libraries, newspapers, and parties to this proceeding.

Any person wishing to comment on the EA may do so. To ensure consideration prior to a Commission decision on the proposal, it is important that we receive your comments before the date specified below. Please carefully follow these instructions to ensure that your comments are received in time and properly recorded:

• Send an original and two copies of your comments to:

Magalie R. Salas, Secretary, Federal Energy Regulatory Commission, 888 First Street, NE., Room 1A, Washington, DC 20426;

• Label one copy of the comments for the attention of Gas 1, PJ-11.1;

• Reference Docket Nos. (Hardy Storage Company, LLC) Docket No. CP05-150-000, CP05-151-000, CP05-152-000, and (Columbia Gas Transmission Corporation) CP05-144-000;

• Mail your comments so that they will be received in Washington, DC on or before September 6, 2005.

Please note that the Commission encourages electronic filing of comments. See 18 Code of Federal Regulations (CFR) 385.2001(a)(1)(iii) and the instructions on the Commission's Internet Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214).² Only intervenors have the right to seek rehearing of the Commission's decision.

² Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC (3372) or on the FERC Internet Web site (http://www.ferc.gov) using the “eLibrary” link; select “General Search” from the eLibrary menu, enter the selected date range and “Docket Number” (i.e., CP05-150) and follow the instructions. Searches may also be done using the phrase “Hardy Storage” in the “Text Search” field. For assistance with eLibrary, the eLibrary helpline can be reached at 1-866-208-3676, TTY (202) 502-8659 or at ferconlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E5-4364 Filed 8-11-05; 8:45 am]

BILLING CODE 6717-01-P